DEPARTMENT OF COMMERCE

Foreign-Trade Zones Board

[B-09-2020]

Foreign-Trade Zone (FTZ) 124—Gramercy, Louisiana; Authorization of Production Activity; Frank's International, LLC (Line Pipe With Tubular Joints); New Iberia and Lafayette, Louisiana

On February 19, 2020, Frank's International, LLC submitted a notification of proposed production activity to the FTZ Board for its facilities within FTZ 124, in New Iberia and Lafayette, Louisiana.

The notification was processed in accordance with the regulations of the FTZ Board (15 CFR part 400), including notice in the Federal Register inviting public comment (85 FR 12499, March 3, 2020). On June 18, 2020, the applicant was notified of the FTZ Board's decision that no further review of the activity is warranted at this time. The production activity described in the notification was authorized, subject to the FTZ Act and the FTZ Board's regulations, including § 400.14.

Dated: June 18, 2020.
Andrew McGilvray,
Executive Secretary.

[FR Doc. 2020-13497 Filed 6-22-20; 8:45 am]

BILLING CODE 3510-DS-P